DEPARTMENT OF LABOR

Employment and Training Administration

[TA-W-71,419]

USS Clairton Coke Works, Clairton, PA; Notice of Termination of Investigation

Pursuant to Section 223 of the Trade Act of 1974, as amended, an investigation was initiated in response to a petition filed on June 26, 2009 by the company official on behalf of workers of USS Clairton Coke Works, Clairton, Pennsylvania.

The petitioner has requested that the petition be withdrawn. Consequently, the investigation has been terminated.

Signed at Washington, DC, this 5th day of March 2010.
Elliott S. Kushner,
Certifying Officer, Division of Trade Adjustment Assistance.

[FR Doc. 2010-5350 Filed 3-11-10; 8:45 am]

BILLING CODE 4510-FN-P